NATIONAL CREDIT UNION ADMINISTRATION

Agency Information Collection Activities: Account Based Disclosures in Connection With Truth in Savings; Comment Request

AGENCY: National Credit Union Administration (NCUA).

ACTION: Notice and request for comment.

SUMMARY: NCUA, as part of its continuing effort to reduce paperwork and respondent burden, invites the general public and other Federal agencies to comment on the submission for reinstatement of a previously approved collection, as required by the Paperwork Reduction Act of 1995 (Pub. L. 104-13, 44 U.S.C. Chapter 35). NCUA is soliciting comment on the reinstatement of the information collection described below.

DATES: Comments should be received on or before June 17, 2016 to be assured consideration.

ADDRESSES: Interested persons are invited to submit written comments on the information collection to Dawn Wolfgang, National Credit Union Administration, 1775 Duke Street, Alexandria, Virginia 22314-3428; Fax No. 703-519-8579; or Email at PRAComments@ncua.gov.

FOR FURTHER INFORMATION CONTACT: Requests for additional information should be directed to the address above.

SUPPLEMENTARY INFORMATION:

I. Abstract and Request for Comments

The Truth in Savings Act, 12 U.S.C. 4301 et seq., (TISA) requires depository institutions to disclose to consumers certain information, including interest rates, dividends, bonuses, and fees associated with their deposit accounts and accompanying services. TISA directed the Federal Reserve Board (FRB) to issue a final regulation governing depository institution other than credit unions. FRB promulgated the TISA regulation, known as Regulation DD, 12 CFR part 230. The Dodd-Frank Wall Street Reform and Consumer Protection Act transferred FRB's rulemaking authority for TISA to the Consumer Financial Protection Bureau (CFPB).

TISA also directed the National Credit Union Administration (NCUA) to promulgate a TISA regulation governing credit unions. Section 272(b) of TISA, 12 U.S.C. 4311(b), mandated that NCUA regulation be “substantially similar” to those issued by FRB (and now CFPB), but NCUA may take into account the unique nature of credit unions and the limitations under which they may pay dividends.

To implement TISA, NCUA published its TISA regulation, 12 CFR part 707, which applies to all credit unions whose accounts are either insured by, or eligible to be insured by, the National Credit Union Share Insurance Fund, except for any credit union that has been designated as a corporate credit union and any non-automated credit union that has $2 million or less in assets (together, “credit unions”). In addition, the advertising rules apply to any person who advertises an account offered by a credit union. NCUA's TISA regulation requires credit unions to disclose fees, dividend rates and other terms concerning accounts to members or potential members.

NCUA's TISA regulation requires credit unions to provide specific disclosures when an account is opened, when a disclosed term changes or a term account is close to renewal, on periodic statements of account activity, in advertisements, and upon a member's or potential member's request. 12 CFR 707.4, 707.5, 707.6, 707.8. Credit unions that provide periodic statements are required to include information about fees imposed, the annual percentage yield earned during those statement periods, and other account terms. The requirements for creating and disseminating account disclosures, change in terms notices, term share renewal notices, statement disclosures, and advertising disclosures are necessary to implement TISA's purpose of providing the public with information that will permit informed comparisons of accounts at depository institutions.

The collection of information pursuant to Part 707 is triggered by specific events and disclosures and must be provided to consumers within the time periods established under the regulation. To ease the compliance cost (particularly for small credit unions), model clauses and sample forms are appended to the regulation.

Although the regulation requires depository institutions to retain evidence of compliance with the disclosure requirements, the regulation does not specify the types of records that must be retained.

Comments submitted in response to this notice will be summarized and included in the request for Office of Management and Budget approval. All comments will become a matter of public record. The public is invited to submit comments concerning: (a) Whether the collection of information is necessary for the proper performance of the function of the agency, including whether the information will have practical utility; (b) the accuracy of the agency's estimate of the burden of the collection of information, including the validity of the methodology and assumptions used; (c) ways to enhance the quality, utility, and clarity of the information to be collected; and (d) ways to minimize the burden of the collection of the information on the respondents, including the use of automated collection techniques or other forms of information technology.

II. Data

Title: Account Based Disclosures in Connection with 12 CFR part 707.

OMB Number: 3133-0134.

Type of Review: Reinstatement with change of a previously approved collection.

Description: NCUA's TISA regulation requires credit unions to provide specific disclosures when an account is opened, when a disclosed term changes or a term account is close to renewal, on periodic statements of account activity, in advertisements, and upon a member's or potential member's request. 12 CFR 707.4, 707.5, 707.6, 707.8. Credit unions that provide periodic statements are required to include information about fees imposed, the annual percentage yield earned during those statement periods, and other account terms. The requirements for creating and disseminating account disclosures, change in terms notices, term share renewal notices, statement disclosures, and advertising disclosures are necessary to implement TISA's purpose of providing the public with information that will permit informed comparisons of accounts at depository institutions.

Respondents: All credit unions whose accounts are either insured by, or eligible to be insured by, the National Credit Union Share Insurance Fund, except for any credit union that has been designated as a corporate credit union and any non-automated credit union that has $2 million or less in assets.

Estimated Number of Respondents: 6,247.

Frequency of Response: Upon occurrence of triggering action.

Estimated Burden Hours per Response: For account disclosures, 1.5 minutes; for change-in-terms notices, 1 minute; for notices prior to maturity, 1 minute; for periodic statement disclosures, 4 hours; and for advertising, 30 minutes.

Estimated Total Annual Burden Hours: 438,852.

By Gerard Poliquin, Secretary of the Board, the National Credit Union Administration, on April 13, 2016.
Dated: April 13, 2016
Dawn D. Wolfgang,
NCUA PRA Clearance Officer.

[FR Doc. 2016-08874 Filed 4-15-16; 8:45 am]

BILLING CODE 7535-01-P